DEPARTMENT OF COMMERCE

National Institute of Standards and Technology

Notice of Jointly Owned Invention Available for Licensing

AGENCY: National Institute of Standards and Technology, Commerce.

ACTION: Notice of Jointly Owned Invention Available for Licensing.

SUMMARY: The invention listed below is jointly owned by the U.S. Government, as represented by the Department of Commerce, and the University of Southern Florida. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Building 222, Room A242, Gaithersburg, MD 20899. Information is also available via telephone: 301-975-2649, fax 301-975-3482, or e- mail: nathalie.rioux@nist.gov. Any request for information should include the NIST Docket number or Patent number and title for the invention as indicated below. The invention available for licensing is:

[NIST Docket Number: 09-035]

Title: Indexing Face Templates Using Linear Models.

Abstract: We present a theory for constructing linear subspace approximations to face-recognition algorithms and empirically demonstrate that a surprisingly diverse set of face-recognition approaches can be approximated well by using a linear model. A linear model, built using a training set of face images, is specified in terms of a linear subspace spanned by possible non-orthogonal vectors.

Dated: December 22, 2009.
Patrick Gallagher,
Director.

[FR Doc. E9-30682 Filed 12-28-09; 8:45 am]

BILLING CODE 3510-13-P